POSTAL SERVICE

5 CFR Part 7001

Supplemental Standards of Ethical Conduct for Employees of the United States Postal Service; Correction

AGENCY: Postal Service™.

ACTION: Correcting amendments.

SUMMARY: This document contains corrections to a final rule that was published in the Federal Register on August 8, 2023. The final rule amended the United States Postal Service's (Postal Service) Supplemental Standards of Ethical Conduct for Employees of the United States Postal Service (Supplemental Standards), which were issued by the Postal Service with the concurrence of the United States Office of Government Ethics (OGE).

DATES: Effective date: February 2, 2024.

FOR FURTHER INFORMATION CONTACT: Ruth Stevenson, Chief Counsel, Ethics & Legal Compliance, United States Postal Service, 475 L'Enfant Plaza SW, Washington, DC 20260-1101, 202-268-6936.

SUPPLEMENTARY INFORMATION:

I. Background

On August 8, 2023, the Postal Service published a final rule amending its Supplemental Standards. 88 FR 53351. The final rule updated the outside employment and activity provisions (including prior approval requirements and prohibitions), added new requirements applicable to Postal Service Office of Inspector General (OIG) employees, Postal Service Governors, the Postmaster General, and the Deputy Postmaster General, and made limited technical and ministerial changes.

II. Need for Correction

The final rule incorrectly listed two internal cross-reference citations contained in the outside employment and business activities restrictions section, § 7001.102. This technical correction amends the Supplemental Standards by updating the cross-references.

List of Subjects in 5 CFR Part 7001

Conflict of interests, Ethical standards, Executive branch standards of conduct, Government employees.

For the reasons set forth in the preamble, the United States Postal Service, with the concurrence of the United States Office of Government Ethics, amends 5 CFR part 7001 as follows:

PART 7001—SUPPLEMENTAL STANDARDS OF ETHICAL CONDUCT FOR EMPLOYEES OF THE UNITED STATES POSTAL SERVICE

1. The authority citation for 5 CFR part 7001 is revised to read as follows:

Authority: 5 U.S.C. 7301; 5 U.S.C. Chapter 131; 39 U.S.C. 401; E.O. 12674, 54 FR 15159, 3 CFR, 1989 Comp., p. 215, as modified by E.O. 12731, 55 FR 42547, 3 CFR, 1990 Comp., p. 306; 5 CFR 2635.105, 2635.802, and 2635.803.

2. In § 7001.102, example 1 to paragraph (a)(2)(ii) and paragraph (c)(2) are revised to read as follows:

§ 7001.102 Restrictions on outside employment and business activities.

(a) * * *

(2) * * *

(ii) * * *

Example 1 to paragraph (a)(2)(ii): United Parcel Service (UPS), Federal Express (FedEx), Amazon, or DHL offers a part-time job to a Postal Service employee. Because UPS, FedEx, Amazon and DHL are persons engaged in the delivery outside the mails of mailable matter (as defined in paragraph (d)(3) of this section) that is not daily newspapers, the employee may not engage in employment with UPS, FedEx, Amazon, or DHL in any location in any capacity while continuing employment with the Postal Service in any location in any capacity. If the employee chooses to work for UPS, FedEx, Amazon, or DHL, the employee must end his or her postal employment before commencing work for that company.

* * * * *

(c) * * *

(2) When prior approval required. A Special Agent or Criminal Investigator shall also request and obtain written approval prior to engaging in outside employment or business activities which he or she is required to report under paragraph (c)(1) of this section. A request for approval shall be submitted to the OIG's Office of General Counsel, which will be reviewed under the same standard stated in paragraph (b)(4) of this section.

* * * * *

Ruth Stevenson,
Chief Counsel, Ethics and Legal Compliance United States Postal Service.
Shelley Finlayson,
Acting Director, U.S. Office of Government Ethics.

[FR Doc. 2024-01866 Filed 2-1-24; 8:45 am]

BILLING CODE 7710-12-P